DEPARTMENT OF ENERGY

Bonneville Power Administration

Agency Information Collection Activities: Proposed Collection; Comment Request; Badge Replacement Request Form

AGENCY: Bonneville Power Administration (BPA), DOE.

ACTION: Notice of submission of information collection approval from the Office of Management and Budget (OMB) and request for comments.

SUMMARY: In compliance with the Paperwork Reduction Act (PRA) of 1995, this notice announces that the Bonneville Power Administration (BPA) will submit the collection abstracted below to the Office of Management and Budget (OMB) for review and comment. The PRA submission describes the nature of the information collection and its expected cost and burden and includes the actual collection instrument.

DATES: Comments must be received on or before December 29, 2015.

ADDRESSES: Written comments may be submitted by mail to Christopher M. Frost, CGI-7, Bonneville Power Administration, 905 NE., 11th Avenue, Portland, Oregon 97232, or by email at IGLM@bpa.gov.

FOR FURTHER INFORMATION CONTACT: Additional information may be requested from Christopher M. Frost at the mailing address above or by email at IGLM@bpa.gov.

SUPPLEMENTARY INFORMATION:

I. Abstract

BPA is seeking approval for an information collection on lost, stolen, or damaged badges that control access to BPA facilities. This information collection helps BPA control access to BPA facilities and track identification badges issued by BPA's Personnel Security office. The relevant form, Form BPA F 5632.27e, will collect the following information: type of badge (standard, smart card, proximity access), date of report, date lost, stolen or damaged, name and work phone number of reporting contractor or federal employee, and a brief description of either the type of damage or the incident resulting in loss.

The Federal Register Notice with a 60-day comment period was published on June 23, 2015 at 80 FR 35947.

II. Data

OMB Control Number: New.

Information Collection Request Title: Badge Replacement Request Form.

Type of Request: New.

Respondents: BPA employees and contractors seeking replacement ID badges.

Annual Estimated Number of Respondents: 75.

Annual Estimated Number of Total Responses: 75.

Average Minutes per Response: 10.

Annual Estimated Number of Burden Hours: 12.5.

Annual Estimated Reporting and Recordkeeping Cost Burden: $0.

Issued in Portland, Oregon, on November 18, 2015.
Christopher M. Frost,
Agency Records Officer, FOIA/Privacy Officer, Information Governance.

[FR Doc. 2015-30220 Filed 11-25-15; 8:45 am]

BILLING CODE 6450-01-P